DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 1, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

PRT-056867

Applicant: Wilson H. Wohler, San Angelo, TX.

The applicant requests a permit to import a sport-hunted cheetah (Acinonyx jubatus) from Zimbabwe for the purpose of enhancement of the survival of the species.

PRT-056833

Applicant: Jack B. Middleton, Manchester, NH.

The applicant requests a permit to import the sport-hunted trophy of one male bontebok (Damaliscus pygargus dorcas) culled from a captive herd maintained under the management program of the Republic of South Africa for the purpose of enhancement of the survival of the species.

PRT-057016

Applicant: David M. Newcomb, Santa Fe, NM.

The applicant requests a permit to import the sport-hunted trophy of one male bontebok (Damaliscus pygargus dorcas) culled from a captive herd maintained under the management program of the Republic of South Africa for the purpose of enhancement of the survival of the species.

PRT-051921

Applicant: Wildlife Conservation Society, Bronx, NY.

The applicant requests a permit to export two captive born male Baird's tapir (Tapirus bairdii) to Zoologico Guadalajara, Guadalajara, Mexico, for the purpose of enhancement of survival of the species through conservation education.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR part 18) and endangered species (50 CFR part 17).

Written data, comments, or requests for copies of the complete application or requests for a public hearing on this application should be submitted to the Director (address above). Anyone requesting a hearing should give specific reasons why a hearing would be appropriate. The holding of such a hearing is at the discretion of the Director.

Applicant: David Mann, University of South Florida, St. Petersburg, FL, PRT-051709.

Permit Type: Take for scientific research.

Name and Number of Animals: West Indian manatee (Trichechus manatus), 250.

Summary of Activity to be Authorized: The applicant requests a permit to record and play back manatee sounds using a hydrophone, speakers, and dataloggers deployed in the areas of Sarasota Bay, Matlacha Canals, and Crystal River. The hydrophones will record sounds from up to 30 manatees annually; play back may incidentally harass up to 20 manatees annually.

Source of Marine Mammals: Waters in the State of Florida.

Period of Activity: Up to 5 years, if issued.

Concurrent with the publication of this notice in the Federal Register, the Division of Management Authority is forwarding copies of the above application to the Marine Mammal Commission and the Committee of Scientific Advisors for their review.

Marine Mammals

The public is invited to comment on the following applications for a permit to conduct certain activities with marine mammals. The applications were submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

Concurrent with the publication of this notice in the Federal Register, the Division of Management Authority is forwarding copies of the above applications to the Marine Mammal Commission and the Committee of Scientific Advisors for their review.

PRT-056915

Applicant: Mike J. Goodart, Alamosa, CO.

The applicant requests a permit to import a polar bear (Ursus maritimus) sport hunted from the Lancaster Sound polar bear population in Canada for personal use.

PRT-057032

Applicant: Ronald L. Smits, Green Bay, WI.

The applicant requests a permit to import a polar bear (Ursus maritimus) sport hunted from the Lancaster Sound polar bear population in Canada for personal use.

PRT-056909

Applicant: William C. Myer, Kelseyville, CA.

The applicant requests a permit to import a polar bear (Ursus maritimus) sport hunted from the Viscount Melville Sound polar bear population in Canada for personal use.

PRT-057052

Applicant: Peter C. Nalos, Bakersfield, CA.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: May 17, 2002.
Michael S. Moore,
Senior Permit Biologist, Branch of Permits, Division of Management Authority.

[FR Doc. 02-13440 Filed 5-29-02; 8:45 am]

BILLING CODE 4310-55-P